SECURITIES AND EXCHANGE COMMISSION

[Release No. 34-47578; File No. 4-208]

Intermarket Trading System; Notice of Filing of the Twentieth Amendment to the ITS Plan Relating to the Recognition of the Use by the Chicago Board Options Exchange, Inc. of the Regional Computer Interface and the Description of Commitment Acceptance Applicable to Specialists of the Boston Stock Exchange, Inc.

March 26, 2003.

Pursuant to section 11A of the Securities Exchange Act of 1934 (“Act”),¹ and Rule 11A3a3-2 thereunder,² notice is hereby given that on March 14, 2003, the Intermarket Trading System Operating Committee (“ITSOC”) submitted to the Securities and Exchange Commission (“Commission”) a proposed amendment (“Twentieth Amendment”) to the restated ITS Plan.³ The purpose of the proposed plan amendment is to recognize the use by the Chicago Board Options Exchange, Inc. (“CBOE”) of the Regional Computer Interface (“RCI”); and to revise the description of commitment acceptance applicable to specialists of the Boston Stock Exchange, Inc. (“BSE”). The Commission is publishing this notice to solicit comment on the proposed amendment from interested persons.

¹ 15 U.S.C. 78k-1.

² 17 CFR 240.11Aa3-2.

³ The ITS is a National Market System (“NMS”) plan, which was designed to facilitate intermarket trading in exchange-listed equity securities based on current quotation information emanating from the linked markets. See Securities Exchange Act Release No. 19456 (January 27, 1983), 48 FR 4938 (February 3, 1983).

The ITS Participants include the American Stock Exchange LLC (Amex”), the BSE, the CBOE, the Chicago Stock Exchange, Inc. (“CHX”), the Cincinnati Stock Exchange, Inc. (“CSE”), the National Association of Securities Dealers, Inc. (“NASD”), the New York Stock Exchange, Inc. (“NYSE”), the Pacific Exchange, Inc. (“PCX”), and the Philadelphia Stock Exchange, Inc. (“Phlx”) (“Participants”).

I. Description of the Amendment

The ITSOC proposes to amend the ITS Plan to recognize the CBOE's use of the RCI; and revise the description of commitment acceptance applicable to BSE specialists. Specifically, the ITSOC proposes to amend Section 1(34A) of the ITS Plan to include the CBOE as an RCI participant. In addition, the ITSOC proposes to amend Section 6(a)(ii)(B) (“Description Applicable to the BSE”) to provide an example of an ITS transaction represented by one or more BSE Registered specialists.

II. Solicitation of Comments

Interested persons are invited to submit written data, views and arguments concerning the foregoing, including whether the proposed Plan amendment is consistent with the Act. Persons making written submissions should file six copies thereof with the Secretary, Securities and Exchange Commission, 450 Fifth Street, NW., Washington, DC 20549-0609. Copies of the submission, all subsequent amendments, all written statements with respect to the proposed Plan amendment that are filed with the Commission, and all written communications relating to the proposed Plan amendment between the Commission and any person, other than those that may be withheld from the public in accordance with the provisions of 5 U.S.C. 552, will be available for inspection and copying in the Commission's Public Reference Room. Copies of such proposed Plan Amendment will also be available for inspection and copying at the principal office of the ITS. All submissions should refer to File No. 4-208 and should be submitted by April 24, 2003.

For the Commission, by the Division of Market Regulation, pursuant to delegated authority.⁴
⁴ 17 CFR 200.30-3(a)(29).
Margaret H. McFarland,
Deputy Secretary.

[FR Doc. 03-8038 Filed 4-2-03; 8:45 am]

BILLING CODE 8010-01-P